DEPARTMENT OF THE INTERIOR

National Park Service

Construction of New Utah Museum of Natural History, Final Environmental Impact Statement, Salt Lake County, UT

AGENCY: National Park Service, Interior.

ACTION: Notice of Availability of the Final Environmental Impact Statement for the Construction and Operation of a Proposed New Utah Museum of Natural History at the University of Utah.

SUMMARY: Pursuant to the National Environmental Policy Act of 1969, 42 U.S.C. 4332(2)(C), the National Park Service and the University of Utah announce the availability of a Final Environmental Impact Statement for the Construction and Operation of a Proposed New Utah Museum of Natural History at the University of Utah, Salt Lake County, Utah.

DATES: The National Park Service will execute a Record of Decision (ROD) no sooner than 30 days following publication by the Environmental Protection Agency of the Notice of Availability of the Final Environmental Impact Statement.

ADDRESSES: Information will be available for public inspection online at http://www.umnh.utah.edu, (click on About UMNH, New Building Updates, Environmental Impact Statement), at the Utah Museum of Natural History, 1390 E. President's Circle, Salt Lake City, Utah 84112, phone 801-581-4889, and at Salt Lake City Public Libraries.

FOR FURTHER INFORMATION CONTACT: Ralph Becker, 1584 South 500 West, Suite 201, Woods Cross, Utah 84010, 801-355-8816, e-mail rbecker@bearwest.com.

Dated: December 5, 2006.
Michael D. Snyder,
Director, Intermountain Region, National Park Service.

[FR Doc. E7-3159 Filed 2-23-07; 8:45 am]

BILLING CODE 4312-52-P